DEPARTMENT OF TRANSPORTATION

Coast Guard

[USCG 2000-7933]

Information Collections Under Review by the Office of Management and Budget (OMB): 2115-0571, 2115-0552, 2115-0565, 2115-0589, and 2115-0613

AGENCY: Coast Guard, DOT.

ACTION: Request for comments.

SUMMARY: In compliance with the Paperwork Reduction Act of 1995, this request for comments announces that the Coast Guard has forwarded the five Information Collection Requests (ICRs) abstracted below to OMB for review and comment. These ICRs describe the information we seek to collect from the public. Review and comment by OMB ensure that we impose only paperwork burdens commensurate with our performance of duties.

DATES: Please submit comments on or before January 29, 2001.

ADDRESSES: Please send comments to (1) the Docket Management System (DMS), U.S. Department of Transportation (DOT), room PL-401, 400 Seventh Street SW., Washington, DC 20590-0001; and (2) the Office of Information and Regulatory Affairs (OIRA), Office of Management and Budget (OMB), 725 17th Street NW., Washington, DC 20503, to the attention of the Desk Officer for the USCG.

Copies of the complete ICRs are available for inspection and copying in public docket USCG 2000-7933 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-9330, for questions on the docket.

SUPPLEMENTARY INFORMATION:

Regulatory History

This request constitutes the 30-day notice required by OMB. The Coast Guard has already published [64 FR 57421 (September 22, 2000)] the 60-day notice required by OMB. That request elicited no comments.

Request for Comments

The Coast Guard invites comments on the proposed collections of information to determine whether the collections are necessary for the proper performance of the functions of the Department. In particular, the Coast Guard would appreciate comments addressing: (1) the practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 2000-7933. Comments to OIRA are best assured of having their full effect if OIRA receives them within 30 days or less after the publication of this request.

Information Collection Requests

1. Title: Alternative Provisions for Reinspection of Offshore Supply Vessels (OSVs) in Foreign Ports.

OMB Control Number: 2115-0571.

Type of Request: Extension of a currently approved collection.

Affected Public: Owners and operators of vessels.

Form(s): This collection of information does not require the public to fill out Coast Guard forms, but does require owners or operators of OSVs to submit certified examination reports and statements to the Coast Guard.

Abstract: This collection of information provides a mechanism for owners and operators of OSVs based overseas to submit certified examination reports and statements to the Coast Guard as alternatives to reinspection by the Coast Guard.

Annual Estimated Burden Hours: The estimated burden is 143 hours a year.

2. Title: Waterfront Facilities Handling Liquefied Natural Gas (LNG) and Liquefied Hazardous Gas (LHG).

OMB Control Number: 2115-0552.

Type of Request: Extension of a currently approved collection.

Affected Public: Owners and operators of waterfront facilities that transfer LNG or LHG.

Forms: This collection of information does not require the public to fill out Coast Guard forms, but an operator of a waterfront facility must submit all requests in writing to the Coast Guard when handling and transferring LNG or LHG in bulk.

Abstract: LNGs and LHGs present a risk to the public when handled at waterfront facilities. These rules should either prevent accidental releases at waterfront facilities or mitigate their results. They are necessary to promote and verify compliance with safety standards.

Annual Estimated Burden Hours: The estimated burden is 3,272 hours a year.

3. Title: Working Freeboard of Hopper Dredges-Load Lines and Stability.

OMB Control Number: 2115-0565.

Type of Request: Extension of a currently approved collection.

Affected Public: Owners and operators of self-propelled hopper dredges who request working freeboards.

Forms: This collection of information does not require the public to fill out Coast Guard forms. Owners or operators must submit to the Coast Guard calculations showing that their dredges meet certain structural and stability standards for working freeboards.

Abstract: This collection of information provides a mechanism for owners and operators of self-propelled hopper dredges to request working freeboards.

Annual Estimated Burden Hours: The estimated burden is 46 hours a year.

4. Title: Approval of Plans and Records for Subdivision and Stability.

OMB Control Number: 2115-0589.

Type of Request: Extension of a currently approved collection.

Affected Public: Owners, operators, or masters of vessels.

Forms: This collection of information does not require the public to fill out Coast Guard forms. Owners or operators must submit to the Coast Guard plans, technical information, or operating instructions before building or altering vessels.

Abstract: This collection of information requires owners, operators, or masters of certain inspected vessels to obtain or post various documents as part of the program of the Coast Guard for the safety of commercial vessels.

Annual Estimated Burden Hours: The estimated burden is 10,003 hours a year.

5. Title: Discharge of Refuse from Ships.

OMB Control Number: 2115-0613.

Type of Request: Extension of a currently approved collection.

Affected Public: Owners, operators, masters, and persons-in-charge of vessels.

Forms: This collection of information does not require the public to fill out Coast Guard forms. Operators of U.S. oceangoing ships must maintain refuse-record books.

Abstract: The Marine Plastic Pollution Research and Control Act of 1987 requires the keeping of records on the discharge of refuse by oceangoing commercial vessels that are 40 feet in length or more. The rules appear in 33 CFR 151.55.

Annual Estimated Burden Hours: The estimated burden is 523,302 hours a year.

Dated: December 20, 2000.
V.S. Crea,
Director of Information and Technology.

[FR Doc. 00-33191 Filed 12-27-00; 8:45 am]

BILLING CODE 4910-15-P